DEPARTMENT OF TRANSPORTATION

Office of the Secretary

Aviation Proceedings, Agreements Filed the Week Ending August 18, 2006

The following Agreements were filed with the Department of Transportation under the Sections 412 and 414 of the Federal Aviation Act, as amended (49 U.S.C. 1382 and 1384) and procedures governing proceedings to enforce these provisions. Answers may be filed within 21 days after the filing of the application.

Docket Number: OST-2006-25639.

Date Filed: August 14, 2006.

Parties: Members of the International Air Transport Association.

Subject: Composite Passenger Tariff Coordinating Conference, Composite Expedited Resolutions 002ae, 210 (Memo1328), Intended effective date: 1 December 2006.

Docket Number: OST-2006-25640.

Date Filed: August 14, 2006.

Parties: Members of the International Air Transport Association.

Subject: PAC/RESO/450 dated August 11, 2006. Twenty-Ninth Passenger Agency Conference (PACONF/29), Geneva, 28-29 June 2006, Finally Adopted Resolutions r1-r35, PAC/MEET/133 dated August 11, 2006; Minutes; Intended effective date: January 1, 2007.

Docket Number: OST-2006-25659.

Date Filed: August 16, 2006.

Parties: Members of the International Air Transport Association.

Subject: TC23/123 Europe-South East Asia and Mail Vote 503, Special Passenger Amending Resolution 010v, From Philippines (PH) to Europe (Memo 0235), Intended effective date: 31 August 2006.

Docket Number: OST-2006-25677.

Date Filed: August 18, 2006.

Parties: Members of the International Air Transport Association.

Subject: TC2 Europe-Middle East, Expedited Resolution 002dm (Memo 0225), Intended effective date: 15 September 2006.

Docket Number: OST-2006-25678.

Date Filed: August 18, 2006.

Parties: Members of the International Air Transport Association.

Subject: TC2 Within Middle East, Expedited Resolution (Memo 0162), Intended effective date: 15 September 2006.

Docket Number: OST-2006-25690.

Date Filed: August 18, 2006.

Parties: Members of the International Air Transport Association.

Subject: TC1 Within South America and Mail Vote 498, Special Amending Resolution 002m (Memo 0347), Intended effective date: 15 September 2006.

Renee V. Wright,
Program Manager, Docket Operations, Federal Register Liaison.

[FR Doc. E6-14705 Filed 9-5-06; 8:45 am]

BILLING CODE 4910-9X-P